DEPARTMENT OF STATE

[Public Notice 6137]

In the Matter of the Designation of al-Shabaab, aka al-Shabab, aka Shabaab, aka the Youth, aka Mujahidin Al-Shabaab Movement, aka Mujahideen Youth Movement, aka Mujahidin Youth Movement, aka MYM, aka Harakat Shabab al-Mujahidin, aka Hizbul Shabaab, aka Hisb'ul Shabaab, aka al-Shabaab al-Islamiya, aka Youth Wing, aka al-Shabaab al-Islaam, aka al-Shabaab al-Jihaad, aka the Unity of Islamic Youth as a Specially Designated Global Terrorist pursuant to Section 1(b) of Executive Order 13224, as Amended

Acting under the authority of and in accordance with Section 1(b) of Executive Order 13224 of September 23, 2001, as amended by Executive Order 13268 of July 2, 2002, and Executive Order 13284 of January 23, 2003, I hereby determine that the organization known as al-Shabaab (aka al-Shabab, aka Shabaab, aka the Youth, aka Mujahidin al-Shabaab Movement, aka Mujahideen Youth Movement, aka Mujahidin Youth Movement, aka MYM, aka Harakat Shabab al-Mujahidin, aka Hizbul Shabaab, aka Hisb'ul Shabaab, aka al-Shabaab al-Islamiya, aka Youth Wing, aka al Shabaab al-Islaam, aka al-Shabaab al-Jihaad, aka the Unity of Islamic Youth) has committed, or poses a significant risk of committing, acts of terrorism that threaten the security of U.S. nationals or the national security, foreign policy, or economy of the United States.

Consistent with the determination in Section 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: February 26, 2008.
Condoleezza Rice,
Secretary of State, Department of State.

[FR Doc. E8-5438 Filed 3-17-08; 8:45 am]

BILLING CODE 4710-10-P